ADMINISTRATIVE CONFERENCE OF THE UNITED STATES

[OMB Control Number: 3002-0003]

Information Collection Request Submitted to Office of Management and Budget

AGENCY: Administrative Conference of the United States.

ACTION: Sixty-day notice requesting comments.

SUMMARY: Pursuant to the Paperwork Reduction Act of 1995, the Administrative Conference of the United States will submit an Information Collection Request (ICR) to the Office of Management and Budget (OMB) requesting approval for the following collection of information: 3002-0003, Substitute Confidential Employment and Financial Disclosure. This form is a substitute for Standard Form 450, issued by the Office of Government Ethics (OGE), which non-government members of the Conference would otherwise be required to file. OGE has approved the use of this substitute form. Before submitting this ICR to OMB, the Administrative Conference is inviting comments on the information collection.

DATES: Comments must be received by November 29, 2010.

ADDRESSES: Submit comments to either of the following:

(1) Online: http://www.regulations.gov.

(2) Mail: ICR Comments, Administrative Conference of the United States, Suite 706 South, 1120 20th Street, NW., Washington, DC 20036.

FOR FURTHER INFORMATION CONTACT: General Counsel, Administrative Conference of the United States, Suite 706 South, 1120 20th Street, NW., Washington, DC 20036; Telephone 202-480-2080.

SUPPLEMENTARY INFORMATION: The Administrative Conference of the United States (ACUS) is charged with developing recommendations for the improvement of Federal administrative procedures (5 U.S.C. 591). Its recommendations are the product of a research process overseen by a small staff, but ultimately adopted by a membership of 101 experts, including approximately 45 non-government members—5 Council members and up to 40 others (5 U.S.C. 593(b) and 5 U.S.C. 595(b)). These individuals are deemed to be “special government employees” within the meaning of 18 U.S.C. 202(a) and, therefore, are subject to confidential financial disclosure requirements of the Ethics in Government Act (5 U.S.C. App. 107) and regulations of the Office of Government Ethics (OGE). The ACUS “Substitute Confidential Employment and Financial Disclosure” form submitted (“Substitute Disclosure Form”) is a substitute for OGE Standard Form 450, which ACUS non-government members would otherwise be required to file.

In addition to the non-government members of the Conference, the Chairman, with the approval of the Council established under 5 U.S.C. 595(b) and appointed by the President, may appoint additional persons in various categories, for participation in Conference activities, but without voting privileges. These categories include senior fellows, special counsels, and liaison representatives from other government entities or professional associations. The estimated maximum number of such individuals that may also be required to submit the Substitute Disclosure Form at any particular time is 45.

Prior to the termination of funding for ACUS in 1995, the agency was authorized to use for this purpose a simplified form that was a substitute for OGE Standard Form 450. The simplified substitute form was approved by OGE following a determination by the ACUS Chairman, pursuant to 5 CFR 2634.905(a), that greater disclosure is not required because the limited nature of the agency's authority makes very remote the possibility that a real or apparent conflict of interest will occur. ACUS received OMB approval for the simplified substitute form in 1994.

ACUS has now been re-established in 2010. On June 10, 2010, OGE renewed its approval for this simplified substitute form, which ACUS must provide to its non-government members in advance of membership meetings. OMB has given emergency approval under 5 CFR 1320.13 for use of this form through March 31, 2011, so that there will be no delay in commencing the committee and Conference activities of the non-government members necessary to the implementation of its statutory responsibilities to identify and recommend improvements of Federal administrative procedures.

As required by the Ethics in Government Act, 5 U.S.C. App. 107(a); Executive Order 12674, sec. 201(d); and OGE regulations, 5 CFR 2634.901(d), copies of the substitute form submitted to ACUS by its members are confidential and may not be released to the public.

The proposed “Substitute Confidential Employment and Financial Disclosure” form and the Supporting Statement submitted to OMB may be viewed at: http://www.reginfo.gov/public/do/PRAMain.

To view these documents, select “Administrative Conference of the United States” under Current Inventory; click on the ICR Reference Number; then click on either “View Information Collection (IC) List” or “View Supporting Statement and Other Documents.”

The total annual burden on respondents is estimated to be 135 hours, based on estimates of 90 persons submitting the form an average of 6 times per year, requiring no more than 15 minutes per response.

Interested persons are invited to submit comments regarding this burden estimate or any other aspect of this information collection, including its necessity, utility and clarity for the proper performance of the Conference's functions.

Dated: September 23, 2010.
Paul R. Verkuil,
Chairman.

[FR Doc. 2010-24506 Filed 9-29-10; 8:45 am]

BILLING CODE 6110-01-P